SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2017.

ADDRESSES: Susquehanna River Basin Commission, 4423 North Front Street, Harrisburg, Pa.17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Chesapeake Appalachia, LLC, Pad ID: Maple Ln Farms, ABR-201202021.R1, Athens Township, Bradford County, Pa.; Consumptive Use of Up to 7.5000 mgd; Approval Date: February 6, 2017.

2. SWEPI, LP, Pad ID: My TB INV LLC 6076, ABR-201702001, Deerfield Township, Tioga County, Pa. Consumptive Use of Up to 4.0000 mgd; Approval Date: February 6, 2017.

3. Range Resources—Appalachia, LLC, Pad ID: Bobst Mtn Hunting Club 30H-33H, ABR-201202017.R1, Cogan House Township, Lycoming County, Pa.; Consumptive Use of Up to 1.0000 mgd; Approval Date: February 8, 2017.

4. Range Resources—Appalachia, LLC, Pad ID: Bobst A Unit 25H-27H, ABR-201202018.R1, Cogan House Township, Lycoming County, Pa.; Consumptive Use of Up to 1.0000 mgd; Approval Date: February 8, 2017.

5. SWN Production Company, LLC, Pad ID: HEBDA-VANDEMARK, ABR-201201025.R1, Stevens Township, Bradford County, Pa.; Consumptive Use of Up to 4.9990 mgd; Approval Date: February 10, 2017.

6. Cabot Oil & Gas Corporation, Pad ID: Jeffers Farms P2, ABR-201702002, Harford Township, Susquehanna County, Pa.; Consumptive Use of Up to 4.2500 mgd; Approval Date: February 14, 2017.

7. Cabot Oil & Gas Corporation, Pad ID: FoltzJ P2, ABR-201702003, Brooklyn Township, Susquehanna County, Pa.; Consumptive Use of Up to 4.2500 mgd; Approval Date: February 14, 2017.

8. Carrizo (Marcellus), LLC, Pad ID: EP Bender B (CC-03) Pad (2), ABR-201201030.R1, Reade Township, Cambria County, Pa.; Consumptive Use of Up to 2.1000 mgd; Approval Date: February 14, 2017.

9. EXCO Resources (PA), LLC, Pad ID: Warner North Unit Pad, ABR-201202001.R1, Penn Township, Lycoming County, Pa.; Consumptive Use of Up to 8.0000 mgd; Approval Date: February 14, 2017.

10. Inflection Energy, (PA), LLC, Pad ID: Eichenlaub B Pad, ABR-201206013.R1, Upper Fairfield Township, Lycoming County, Pa.; Consumptive Use of Up to 4.0000 mgd; Approval Date: February 16, 2017.

11. Chief Oil & Gas, LLC, Pad ID: Boy Scouts Drilling Pad, ABR-201207023.R1, Elkland Township, Sullivan County, Pa.; Consumptive Use of Up to 2.0000 mgd; Approval Date: February 17, 2017.

12. Cabot Oil & Gas Corporation, Pad ID: ManzerA P1, ABR-201203013.R1, Gibson Township, Susquehanna County, Pa.; Consumptive Use of Up to 3.5750 mgd; Approval Date: February 20, 2017.

13. Cabot Oil & Gas Corporation, Pad ID: MackeyR P1, ABR-201203015.R1, Lathrop Township, Susquehanna County, Pa.; Consumptive Use of Up to 3.5750 mgd; Approval Date: February 20, 2017.

14. Cabot Oil & Gas Corporation, Pad ID: TeddickM P1, ABR-201203016.R1, Brooklyn Township, Susquehanna County, Pa.; Consumptive Use of Up to 3.5750 mgd; Approval Date: February 20, 2017.

15. SWN Production Company, LLC, Pad ID: Conklin South Pad, ABR-201204018.R1, New Milford Township, Susquehanna County, Pa.; Consumptive Use of Up to 4.9990 mgd; Approval Date: February 20, 2017.

16. EXCO Resources (PA), LLC, Pad ID: Budman Well Pad, ABR-201201015.R1, Franklin Township, Lycoming County, Pa.; Consumptive Use of Up to 8.0000 mgd; Approval Date: February 23, 2017.

17. Chesapeake Appalachia, LLC, Pad ID: SGL289C, ABR-201201034.R1, West Burlington Township, Bradford County, Pa.; Consumptive Use of Up to 7.5000 mgd; Approval Date: February 24, 2017.

18. Chief Oil & Gas, LLC, Pad ID: SGL 12 K UNIT PAD, ABR-201702004, Leroy Township, Bradford County, Pa.; Consumptive Use of Up to 2.5000 mgd; Approval Date: February 24, 2017.

19. Inflection Energy (PA) LLC, Pad ID: Nature Boy, ABR-201111035.R1, Upper Fairfield Township, Lycoming County, Pa.; Consumptive Use of Up to 4.0000 mgd; Approval Date: February 24, 2017.

20. SWN Production Company, LLC, Pad ID: Conigliaro Pad, ABR-201204016.R1, New Milford Township, Susquehanna County, Pa.; Consumptive Use of Up to 4.9990 mgd; Approval Date: February 24, 2017.

21. Chesapeake Appalachia, LLC, Pad ID: Nina, ABR-201208003.R1, Asylum Township, Bradford County, Pa.; Consumptive Use of Up to 7.5000 mgd; Approval Date: February 27, 2017.

22. Chesapeake Appalachia, LLC, Pad ID: Stethers, ABR-201208004.R1, Wyalusing Township, Bradford County, Pa.; Consumptive Use of Up to 7.5000 mgd; Approval Date: February 27, 2017.

23. Chesapeake Appalachia, LLC, Pad ID: Harlan, ABR-201208005.R1, Overton Township, Bradford County, Pa.; Consumptive Use of Up to 7.5000 mgd; Approval Date: February 27, 2017.

24. Chesapeake Appalachia, LLC, Pad ID: BKT, ABR-201208012.R1, Wilmot Township, Bradford County, Pa.; Consumptive Use of Up to 7.5000 mgd; Approval Date: February 27, 2017.

25. Chesapeake Appalachia, LLC, Pad ID: Ronmary, ABR-201208013.R1, Elkland Township, Sullivan County, Pa.; Consumptive Use of Up to 7.5000 mgd; Approval Date: February 27, 2017.

26. Chesapeake Appalachia, LLC, Pad ID: Tufano, ABR-201208020.R1, Overton Township, Bradford County, Pa.; Consumptive Use of Up to 7.5000 mgd; Approval Date: February 27, 2017.

27. Repsol Oil & Gas USA, LLC, Pad ID: ALDERFER (03 109) H, ABR-201203007.R1, Columbia Township, Bradford County, Pa.; Consumptive Use of Up to 6.0000 mgd; Approval Date: February 27, 2017.

28. SWEPI, LP, Pad ID: Barner 709, ABR-201201013.R1, Liberty Township, Tioga County, Pa.; Consumptive Use of Up to 4.0000 mgd; Approval Date: February 27, 2017.

29. SWEPI, LP, Pad ID: Tolbert 263, ABR-201201022.R1, Jackson Township, Tioga County, Pa.; Consumptive Use of Up to 4.0000 mgd; Approval Date: February 27, 2017.

30. SWN Production Company, LLC, Pad ID: GOOD, ABR-201201027.R1, Jackson and Cogan House Townships, Lycoming County, Pa.; Consumptive Use of Up to 4.9990 mgd; Approval Date: February 28, 2017.

31. SWN Production Company, LLC, Pad ID: McNamara Well Pad, ABR-201203011.R1, Silver Lake Township, Susquehanna County, Pa.; Consumptive Use of Up to 4.0000 mgd; Approval Date: February 28, 2017.

32. SWEPI, LP, Pad ID: Jones 276, ABR-201201021.R1, Jackson Township, Tioga County, Pa.; Consumptive Use of Up to 4.0000 mgd; Approval Date: February 28, 2017.

Authority: Pub. L. 91-575, 84 Stat. 1509 et seq., 18 CFR parts 806, 807, and 808.

Dated: March 10, 2017.
Stephanie L. Richardson,
Secretary to the Commission.

[FR Doc. 2017-05912 Filed 3-24-17; 8:45 am]

BILLING CODE 7040-01-P